DEPARTMENT OF VETERANS AFFAIRS

[OMB Control No. 2900-0099]

Agency Information Collection Activity Under OMB Review: Dependent's Request for Change of Program or Place of Training

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before November 21, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0099” in any correspondence.

FOR FURTHER INFORMATION CONTACT: Danny S. Green at (202) 421-1354.

SUPPLEMENTARY INFORMATION:

Authority: 38 United States Code 3034(a), 3034(b), 3323(a), 3323(b), 3471, 3513, 3521, 3691, and 38 Code of Federal Regulations 21.4234.

Title: Dependent's Request for Change of Program or Place of Training (VA Form 22-5495).

OMB Control Number: 2900-0099.

Type of Review: Reinstatement with change of a previously approved collection.

Abstract: VA has used the current information collection to determine (1) if the claimant continues to qualify for education benefits when taking a different program of training and (2) to verify that a new place of training is approved for benefits. The information on the form can be obtained only from the individual claimant. VA cannot make an eligibility determination without this information.

An agency may not conduct or sponsor, and a person is not required to respond to a collection of information unless it displays a currently valid OMB control number. The Federal Register Notice with a 60-day comment period soliciting comments on this collection of information was published at 84 FR 39894 on August 12, 2019, page 39894.

Affected Public: Individual and households.

Estimated Annual Burden: 36,083 hours.

Estimated Average Burden Per Respondent: 15 minutes.

Frequency of Response: On occasion.

Estimated Number of Respondents: 144,333.

By direction of the Secretary.
Danny S. Green,
VA Interim Clearance Officer, Office of Quality, Performance and Risk, Department of Veterans Affairs.

[FR Doc. 2019-22941 Filed 10-21-19; 8:45 am]

BILLING CODE 8320-01-P